FEDERAL COMMUNICATIONS COMMISSION

Notice of Public Information Collections Being Submitted to the Office of Management and Budget for Review and Approval, Comments Requested

March 16, 2010.

SUMMARY: The Federal Communications Commission, as part of its continuing effort to reduce paperwork burden invites the general public and other Federal agencies to take this opportunity to comment on the following information collections, as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

DATES: Persons wishing to comment on this information collection should submit comments by April 21, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via e-mail to Nicholas_A._Fraser@omb.eop.gov and to Cathy Williams, Federal Communications Commission (FCC), via e-mail to Cathy.Williams@fcc.gov and to PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: For additional information about the information collections send an e-mail to PRA@fcc.gov or contact Cathy Williams on (202) 418-2918.

SUPPLEMENTARY INFORMATION: OMB Control Number: 3060-0874.

Title: FCC Form 2000 A through F, FCC Form 475-B, FCC Form 1088 A through H, and FCC Form 501 - Consumer Complaint Forms: General Complaints, Obscenity or Indecency Complaints, Complaints under the Telephone Consumer Protection Act, and Slamming Complaints.

Form Number(s): FCC Form 2000 A through F, FCC Form 475-B, FCC Form 1088 A through H, and FCC Form 501.

Type of Review: Revision of a currently approved collection.

Respondents: Individuals or households; Business or other for-profit entities; Not-for-profit institutions; State, local or Tribal Government.

Number of Respondents and Responses: 518,193 respondents and 518,193 responses.

Estimated Time per Response: 15 to 30 minutes per form on average.

Frequency of Response: On occasion reporting requirement.

Total Annual Burden: 195,704 hours.

Total Annual Cost: None.

Obligation to Respond: Voluntary.

Nature and Extent of Confidentiality:Confidentiality is an issue to the extent that individuals and households provide personally identifiable information, which is covered under the FCC's updated system of records notice (SORN), FCC/CGB-1, “Informal Complaints and Inquiries”, which became effective on January 25, 2010.

Privacy Impact Assessment: The Privacy Impact Assessment (PIA) for Informal Complaints and Inquiries was completed on June 28, 2007. It may be reviewed at <http://www.fcc.gov/omd/privacyact/Privacy_Impact_Assessment.html>. The Commission is in the process of updating the PIA to incorporate various revisions to it as a result of revisions to the SORN.

Needs and Uses: The FCC Form 2000 Consumer Complaint Forms asks the complainants to provide their contact information, including address, telephone number, and e-mail address, and to briefly describe the nature of the complaint, including the communications entities against which the complaint is lodged, the consumer's account number(s), if applicable, the date(s) on which the incident(s) occurred, and the type of resolution the consumer is seeking. The Commission uses the information to resolve the consumer's informal complaint(s). The FCC Form 2000 A through F will remain unchanged.

The FCC Form 475-B Consumer Complaint Form asks complainants to provide their contact information, including address, telephone number, and e-mail address, and to describe their complaint(s) and issue(s) concerning the practices of telecommunications entities, which they believe may have aired obscene, profane, and/or indecent programming. The FCC Form 475-B will remain unchanged.

The FCC Form 1088 Consumer Complaint Form asks complainants to provide their contact information, including address, telephone number, and e-mail address, and to describe their complaints and issues regarding “Do Not Call” and “Junk Fax” as well as other related consumer protection issues such as prerecorded messages, automatic telephone dialing systems, and unsolicited commercial e-mail messages to wireless telecommunications devices. The FCC Form 1088 A through H will remain unchanged.

The FCC Form 501 Consumer Complaint Form asks complainants to provide their contact information, including address, telephone number, and e-mail address, and to describe their complaints and issues regarding alleged slamming violations. The FCC Form 501 will remain unchanged.

All of the FCC Complaint Forms are being consolidated into this collection (and being deleted from OMB Control Number 3060-1088 and discontinued in OMB Control Number 3060-0968) in order to allow the Commission to better manage all forms used to collect informal consumer complaints.

OMB Control Number: 3060-1088.

Title: Rules and Regulations Implementing the Telephone Consumer Protection Act (TCPA) of 1991, Report and Order and Third Order on Reconsideration, CG Docket No. 05-338, FCC 06-42.

Form Number: Not applicable.

Type of Review: Revision of a currently approved collection.

Respondents: Business or other for-profit entities; Not-for-profit institutions; and Individuals or households.

Number of Respondents and Responses: 5,000,000 respondents; 5,122,500 responses.

Estimated Time per Response: 3 minutes (.05 hours) to 30 minutes (.50 hours).

Frequency of Response: Annual, monthly, and on occasion reporting requirements; recordkeeping; and third party disclosure.

Obligation to Respond: Required to obtain or retain benefits. The authorizing statutes for this information collection are: Telephone Consumer Protection Act of 1991, Pub. L. No. 102-243, 105 Stat. 2394 (1991); Junk Fax Prevention Act, Pub. L. No. 109-21, 119 Stat. 359 (2005).

Total Annual Burden: 3,311,250 hours.

Total Annual Cost: $8,000,000.

Nature and Extent of Confidentiality: Confidentiality is an issue to the extent that

Individuals and households provide personally identifiable information, which is covered

under the FCC's updated system of records notice (SORN), FCC/CGB-1, “Informal

Complaints and Inquiries,” which became effective on January 25, 2010.

Privacy Impact Assessment: The Privacy Impact Assessment (PIA) for Informal Complaints and Inquiries was completed on June 28, 2007. It may be reviewed at http://www.fcc.gov/omd/privacyact/Privacy_Impact_Assessment.html. The Commission is in the process of updating the PIA to incorporate various revisions to it as a result of revisions to the SORN.

Needs and Uses: On April 5, 2006, the Commission adopted a Report and Order and Third Order on Reconsideration, In the Matter of Rules and Regulations Implementing the Telephone Consumer Protection Act of 1991; Junk Fax Prevention Act of 2005, CG Docket Nos. 02-278 and 05-338, FCC 06-42, which modified the Commission's facsimile advertising rules to implement the Junk Fax Prevention Act. The Report and Order and Third Order on Reconsideration contained information collection requirements pertaining to: (1) Opt-out Notice and Do-Not-Fax Requests Recordkeeping in which the rules require senders of unsolicited facsimile advertisements to include a notice on the first page of the facsimile that informs the recipient of the ability and means to request that they not receive future unsolicited facsimile advertisements from the sender; (2) Established Business Relationship Recordkeeping whereas the Junk Fax Prevention Act provides that the sender, e.g., a person, business, or a nonprofit/institution, is prohibited from faxing an unsolicited advertisement to a facsimile machine unless the sender has an “established business relationship” (EBR) with the recipient; (3) Facsimile Number Recordkeeping in which the Junk Fax Prevention Act provides that an EBR alone does not entitle a sender to fax an advertisement to an individual or business. The fax number must also be provided voluntarily by the recipient; and (4) Express Invitation or Permission Recordkeeping where in the absence of an EBR, the sender must obtain the prior express invitation or permission from the consumer before sending the facsimile advertisement.

On October 14, 2008, the Commission released an Order on Reconsideration, FCC 08-239, addressing certain issues raised in petitions for reconsideration and/or clarification filed in response to the Commission's Report and Order and Third Order on Reconsideration (Junk Fax Order), FCC 06-42. In document FCC 08-239, the Commission clarified that: (1) Facsimile numbers compiled by third parties on behalf of the facsimile sender will be presumed to have been made voluntarily available for public distribution so long as they are obtained from the intended recipient's own directory, advertisement, or Internet site; (2) Reasonable steps to verify that a recipient has agreed to make available a facsimile number for public distribution may include methods other than direct contact with the recipient; and (3) a description of the facsimile sender's opt-out mechanism on the first webpage to which recipients are directed in the opt-out notice satisfies the requirement that such a description appear on the first page of the Web site.

The Commission believes these clarifications will assist senders of facsimile advertisements in complying with the Commission's rules in a manner that minimizes regulatory compliance costs while maintaining the protections afforded consumers under the Telephone Consumer Protection Act (TCPA).

Federal Communications Commission.
Marlene H. Dortch,
Secretary,
Office of the Secretary,
Office of Managing Director.

[FR Doc. 2010-6139 Filed 3-19-10; 8:45 am]

BILLING CODE 6712-01-S